DEPARTMENT OF THE INTERIOR

National Park Service

[NPS-WASO-NRNHL-DTS#-39042; PPWOCRADI0, PCU00RP14.R50000]

National Register of Historic Places; Notification of Pending Nominations and Related Actions

AGENCY: National Park Service, Interior.

ACTION: Notice.

SUMMARY: The National Park Service is soliciting electronic comments on the significance of properties nominated before November 2, 2024, for listing or related actions in the National Register of Historic Places.

DATES: Comments should be submitted electronically by December 2, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before November 2, 2024. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ALABAMA

Geneva County

Geneva Commercial Historic District, S Commerce St., E Church Ave., E Water Ave., E Town Ave., Geneva, SG100011147

Henry County

Headland Commercial Historic District, Four blocks in downtown Headland centered around the Public Square, Headland, SG100011166

ALASKA

Fairbanks North Star Borough

Chena Building, Chena River State Recreation Site. Mile 8 Chena Pump Road, Fairbanks vicinity, SG100011138

DISTRICT OF COLUMBIA

District of Columbia

de Veyra, Sofia Reyes Residence, 2610 Cathedral Avenue NW, Washington, SG100011144

IOWA

Johnson County

Iowa City Community Recreation Center, 220 S Gilbert St., Iowa City, SG100011133

MICHIGAN

Wayne County

Detroit Association of Women's Clubs Building (The Civil Rights Movement and the African American Experience in 20th Century Detroit MPS), 5461 Brush Street, Detroit, MP100011153

NORTH CAROLINA

Chatham County

Johnson's Drive-In, 1520 East Eleventh Street, Siler City, SG100011159

Durham County

Harriet Tubman YWCA, 312 East Umstead Street, Durham, SG100011155

Guilford County

Loewenstein. Edward and Frances S., House, 2104 Granville Road, Greensboro, SG100011157

South Benbow Road Historic District, Roughly bounded by Julian Street and Ross Avenue at the north: US-29 (South O'Henry Boulevard) on the east; South side Boulevard, Britton and Curry Streets on the south: Dale, Larkin, and Logan Streets on the west: and extending west through the 1000 block, Greensboro, SG100011158

Tanlea Woods, 2904 Wynnewood Drive, Greensboro, SG100011160

Perquimans County

Hertford West Historic District, Dobbs St., W Grubb St., Pennsylvania Ave., and adjacent streets to the west of W Railroad Ave., Hertford, SG100011161

Rowan County

Fisher, John, House, 3850 East Ridge Road, Salisbury vicinity, SG100011162

OKLAHOMA

Cleveland County

Prairie House, 550 48th Avenue NE, Norman, SG100011139

Oklahoma County

Classen's North Highland Parked Historic District, Bounded by NE 13th St., Lincoln Blvd., NE 16th St., and I-235, Oklahoma City, SG100011140

Haywood, Dr. William L. and Susie Price, Estate, 7100 North Sooner Road, Oklahoma City, SG100011141

Rock House, 20000 NE 23rd Street, Harrah, SG100011142

Pottawatomie County

Chisholm Springs Springhouse, Address Restricted, Asher vicinity, SG100011143

PENNSYLVANIA

Lackawanna County

Dickson Works (Boundary Increase), 225 & 215 Vine Street, Scranton, BC100011135

VIRGINIA

Essex County

Hundley Hall and Hoskins Country Store, 381-383 Dunnsville Road, Dunnsville, SG100011137

Henrico County

Indian Springs Farm Site 44HE1065, Address Restricted, Sandston vicinity, SG100011146

Westmoreland County

Woodbourne, 10908 Cople Highway, Kinsale, SG100011145

A request for removal has been made for the following resource(s):

GEORGIA

Fulton County

Fulton County Almshouse, 215 W Wieuca Rd. NW, Atlanta, OT13001169

MICHIGAN

St. Clair County

USCGC BRAMBLE (cutter), 2336 Military St., Port Huron, OT12000457

Wayne County

Park Avenue Hotel, 2643 Park Ave., Detroit, OT06000586

Cass, Lewis, Technical High School (Public Schools of Detroit MPS), 2421 Second Ave., Detroit, OT10000644

Jefferson Hall (East Jefferson Avenue Residential TR), 1404 E Jefferson Ave., Detroit, OT85002939

Additional documentation has been received for the following resource(s):

GEORGIA

Fulton County

Atkins Park District (Additional Documentation), St. Augustine St., St. Charles, and St. Louis Pls. between N Highland Ave. and Briarcliff Rd., Atlanta, AD82004619

KENTUCKY

Kenton County

Independence Historic District (Additional Documentation), Portions of Madison & McCullum Pikes, Independence, AD16000500, Comment period: 0 days

NORTH CAROLINA

Durham County

St. Joseph's African Methodist Episcopal Church (Additional Documentation), Fayetteville St. and Durham Expwy., Durham, AD76001319

PENNSYLVANIA

Lackawanna County

Dickson Works (Additional Documentation), 225 Vine St., Scranton, AD79002251

Authority: Section 60.13 of 36 CFR part 60.

Sherry A. Frear,
Chief, National Register of Historic Places/National Historic Landmarks Program.

[FR Doc. 2024-26653 Filed 11-14-24; 8:45 am]

BILLING CODE 4312-52-P